FEDERAL RETIREMENT THRIFT INVESTMENT BOARD

Sunshine Act; Notice of Meeting

Time and Date: 9 a.m. (Eastern Time), January 19, 2010.

Place: 4th Floor Conference Room, 1250 H Street, NW., Washington, DC 20005.

Status: Parts will be open to the public and parts closed to the public.

Matters to be Considered: Parts Open to the Public

1. Approval of the minutes of the November 16, 2009 Board member meeting.

2. Thrift Savings Plan activity report by the Executive Director.

a. Monthly Participant Activity Report.

b. Monthly Investment Performance Report.

c. Legislative Report.

3. Website Re-Design Update.

4. IT Modernization Plan Update.

5. Quarterly Vendor Financial Report.

6. Review of Gross and Net Expense Ratios.

Parts Closed to the Public

7. Confidential Financial Information.

Contact Person for More Information: Thomas J. Trabucco, Director, Office of External Affairs, (202) 942-1640.

Dated: January 7, 2010.
Thomas K. Emswiler,
Secretary, Federal Retirement Thrift Investment Board.

[FR Doc. 2010-441 Filed 1-8-10; 11:15 am]

BILLING CODE 6760-01-P